DEPARTMENT OF HEALTH AND HUMAN SERVICES

Administration for Children and Families

Proposed Information Collection Activity; Conversion of Enrollment Slots From Head Start to Early Head Start Multi-Case Study (New Collection)

AGENCY: Office of Planning, Research, and Evaluation, Administration for Children and Families, U.S. Department of Health and Human Services.

ACTION: Request for public comment.

SUMMARY: The Administration for Children and Families (ACF) at the U.S. Department of Health and Human Services (HHS) is proposing a new information collection using qualitative case studies to examine how and why Head Start grant recipients convert enrollment slots from Head Start to Early Head Start and the facilitators and barriers to the implementation of high-quality Early Head Start services following conversion. This information collection aims to present an internally valid description of the experiences of up to six purposively selected cases, not to promote statistical generalization to different sites or service populations.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Identify all requests by the title of the information collection.

SUPPLEMENTARY INFORMATION: Description: This primary data collection request for the Conversion of Enrollment Slots from Head Start to Early Head Start (HS2EHS) Multi-Case Study aims to gather qualitative data about the experiences of up to six grant recipients that have converted enrollment slots from Head Start to Early Head Start. The HS2EHS Multi-Case Study will collect information about (a) how and why each grant recipient converted enrollment slots from Head Start to Early Head Start; (b) strategic planning for and implementation of high-quality Early Head Start services following conversion; and (c) barriers and facilitators to the provision of high-quality Early Head Start services that meet community needs. The HS2EHS team will also collect information about the state and local early care and education context and community need for Early Head Start services.

Respondents: Head Start directors and staff, Head Start policy council members, Head Start Training and Technical Assistance staff, and state and local Early Care and Education leaders and community partners.

Annual Burden Estimates
Instrument | Number of respondents (total over request period) | Number of responses per respondent (total over request period) | Avg. burden per response (in hours) | Total/annual burden (in hours)
Prep Email Request (Director) | 9 | 1 | .5 | 5
Preparatory Interview Protocol (Director, Onsite coordinator) | 18 | 1 | 1 | 18
Full Interview for Head Start staff Protocol | 70 | 1 | 1.5 | 105
Full Interview for non-Head Start staff Protocol | 12 | 1 | 1.5 | 18

Estimated Total Annual Burden Hours: 146 hours.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act section 640 [42 U.S.C. 9835].

Mary B. Jones,
ACF/OPRE Certifying Officer.

[FR Doc. 2022-07049 Filed 4-1-22; 8:45 am]

BILLING CODE 4184-22-P